DEPARTMENT OF THE TREASURY

Fiscal Service

Change in the Legacy Treasury Direct Annual Maintenance Fee Schedule

AGENCY: Bureau of the Public Debt, Fiscal Service, Treasury.

ACTION: Notice.

SUMMARY: The Department of the Treasury is announcing a change in the fee schedule for the Legacy Treasury Direct investor account maintenance fee. Legacy Treasury Direct investor account maintenance fees are assessed annually for each investor account with security holdings in excess of $100,000 in par value, pursuant to the Regulations Governing Book-Entry Treasury Bonds, Notes and Bills Held in Legacy Treasury Direct.

DATES: Effective Date: This notice is effective upon publication in the Federal Register.

ADDRESSES: You can download this notice at the following Internet address: http://www.publicdebt.treas.gov or http://www.gpoaccess.gov.

FOR FURTHER INFORMATION CONTACT: Elisha Whipkey, Director, Division of Program Administration, Office of Securities Operations, Bureau of the Public Debt, at (304) 480-6319 or elisha.whipkey@bpd.treas.gov.

Susah Sharp, Attorney-Adviser, Edward Gronseth, Deputy Chief Counsel, Office of the Chief Counsel, Bureau of the Public Debt, at (304) 480-8692 or susan.sharp@bpd.treas.gov.

SUPPLEMENTARY INFORMATION: The Treasury, Postal Service and General Government Appropriations Act of 1995 (Pub. L. 103-329) authorized the Secretary to collect an annual fee of not less than $25 for each Legacy Treasury Direct investor account, referred to in the regulations as a “securities account,” with security holdings in excess of $100,000 in par value, to recover the costs of providing account services to Legacy Treasury Direct investors. The fee was set at that time at $25, and has not been increased since. This Notice increases the amount of the fee to $100. The $100 fee will more nearly offset the Bureau of the Public Debt's cost for maintaining Legacy Treasury Direct accounts.

Schedule of Fees for Legacy Treasury Direct Accounts

The fee schedule for Legacy Treasury Direct securities accounts is as follows: beginning in 2008 and until further notice, the investor account maintenance fee for each Legacy Treasury Direct investor account holding Treasury securities that exceed $100,000 in par amount is $100.

Dated: March 14, 2008.
Gary Grippo,
Acting Fiscal Assistant Secretary.

[FR Doc. 08-1052 Filed 3-14-08; 1:24 pm]

BILLING CODE 4810-39-M